DEPARTMENT OF TRANSPORTATION

Office of the Secretary

[Dockets DOT-OST-2014-0097 and DOT-OST-2014-0098]

Applications of Jet Aviation Flight Services, Inc. for Certificate Authority

AGENCY: Department of Transportation.

ACTION: Notice of Order to Show Cause (Order 2015-3-18) Dockets DOT-OST-2014-0097 and DOT-OST-2014-0098

SUMMARY: The Department of Transportation is directing all interested persons to show cause why it should not issue orders finding Jet Aviation Flight Services, Inc., fit, willing, and able, and awarding it certificates of public convenience and necessity to engage in interstate and foreign charter air transportation of persons, property and mail.

DATES: Persons wishing to file objections should do so no later than April 10, 2015.

ADDRESSES: Objections and answers to objections should be filed in Dockets DOT-OST-2014-0097 and DOT-OST-2014-0098 and addressed to U.S. Department of Transportation, Docket Operations, (M-30, Room W12-140), 1200 New Jersey Avenue SE., West Building Ground Floor, Washington, DC 20590, and should be served upon the parties listed in Attachment A to the order.

FOR FURTHER INFORMATION CONTACT: Lauralyn Remo, Air Carrier Fitness Division (X-56), U.S. Department of Transportation, 1200 New Jersey Avenue SE., Washington, DC 20590, (202) 366-9721.

Brandon M. Belford,
Deputy Assistant Secretary, for Aviation and International Affairs.

[FR Doc. 2015-07564 Filed 4-1-15; 8:45 am]

BILLING CODE CODE 4910-9X-P